DEPARTMENT OF THE INTERIOR

Fish and Wildlife Service

[FWS-R1-ES-2021-N168; FXES11130100000-212-FF01E00000]

Endangered Species; Receipt of Recovery Permit Applications

AGENCY: Fish and Wildlife Service, Interior.

ACTION: Notice of receipt of permit applications; request for comments.

SUMMARY: We, the U.S. Fish and Wildlife Service, have received applications for permits to conduct activities intended to enhance the propagation and survival of endangered species under the Endangered Species Act of 1973, as amended. We invite the public and local, State, Tribal, and Federal agencies to comment on these applications. Before issuing the requested permits, we will take into consideration any information that we receive during the public comment period.

DATES: We must receive your written comments on or before August 27, 2021.

ADDRESSES: Document availability and comment submission: Submit a request for a copy of the application and related documents and submit any comments by one of the following methods. All requests and comments should specify the applicant name and application number (e.g., Dana Ross TE-08964A-2):

• Email: permitsR1ES@fws.gov.

• U.S. Mail: Marilet Zablan, Program Manager, Restoration and Endangered Species Classification, Ecological Services, U.S. Fish and Wildlife Service, Portland Regional Office, 911 NE 11th Avenue, Portland, OR 97232-4181.

FOR FURTHER INFORMATION CONTACT: Colleen Henson, Regional Recovery Permit Coordinator, Ecological Services, (503) 231-6131 (phone); permitsR1ES@fws.gov (email). Individuals who are hearing or speech impaired may call the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations (CFR) at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
PER0008917 | Institute for Applied Ecology, Corvallis, OR | Fender's blue butterfly (Icaricia icarioides fenderi) | Oregon | Harass by pursuit, capture, handle, identify, release, translocate, and salvage | Amend.
PER0007997 | University of Washington Botanic Gardens, Seattle, WA | Hackelia venusta (Showy stickseed)Sidalcea oregana var. calva (Wenatchee Mountains checkermallow) | Washington | Remove/reduce to possession—collect seeds, propagate, outplant, and monitor | New.
PER0010212 | Idaho Department of Fish and Game, Coeur d`Alene, ID | Kootenai River white sturgeon (Acipenser transmontanus) | Idaho, Montana | Harass by survey, capture, handle, mark, collect biological samples, tag, attach transmitters, sacrifice, cull, and release | Renew.
PER0010269 | H.T. Harvey and Associates, Los Gatos, CA | Hawaiian hoary bat (Lasiurus cinereus semotus) | Hawaii | Harass by capture, handle, measure, band, collect biological samples, tag, attach transmitters and light emitting diodes, release, and salvage | Renew.
PER0009546 | Washington State University, Vancouver, WA | Fender's blue butterfly (Icaricia icarioides fenderi) | Oregon | Harass by survey, monitor, capture, handle, mark, release, track, and salvage | Renew and Amend.
PER0007886 | Assured Bio Labs, LLC, Oak Ridge, TN | Bidens amplectens (Ko'oko'olau) | Hawaii | Remove/reduce to possession—collect leaves, flowering portions, stems, and herbarium specimens | Renew.
PER0010822 | Ecostudies Institute, Olympia, WA | Taylor's checkerspot butterfly (Euphydryas editha taylori) | Oregon, Washington | Harass by habitat monitoring | New.
PER0011956 | U.S. Army Corps of Engineers, Lowell, OR | Fender's blue butterfly (Icaricia icarioides fenderi) Erigeron decumbens (Willamette daisy) | Oregon | Harass by survey, capture, and release Remove/reduce to possession—collect propagules, propagate, outplant, and monitor | Renew.
PER0012586 | Hawaii Division of Forestry and Wildlife, Honolulu, HI | Akekee (Loxops caeruleirostris) Akikiki (Oreomystis bairdi) Maui parrotbill or kiwikiu (Pseudonestor xanthophrys) Palila or honeycreeper (Loxioides bailleui) Small Kauai thrush or puaiohi (Myadestes palmeri) Laysan duck (Anas laysanensis) | Hawaiian Archipelago and the Pacific Islands Region | Forest birds: Harass by survey, monitor, capture, handle, collect eggs, nestlings, subadults, and/or adults, captive propagate, band, release, and salvage Laysan duck: Harass by survey, monitor, capture, handle, band, vaccinate, translocate, release, supplemental feed, and salvage | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

Katherine Norman,
Assistant Regional Director-Ecological Services, Pacific Region.

[FR Doc. 2021-16010 Filed 7-27-21; 8:45 am]

BILLING CODE 4333-15-P